DEPARTMENT OF ENERGY

Federal Energy Regulatory Commission

[Project No. 13642-003]

GB Energy Park, LLC; Notice of Application Accepted for Filing and Soliciting Motions To Intervene and Protests

Take notice that the following hydroelectric application has been filed with the Commission and is available for public inspection.

a. Type of Application: Unconstructed Major Project.

b. Project No.: 13642-003.

c. Date filed: October 1, 2015.

d. Applicant: GB Energy Park, LLC.

e. Name of Project: Gordon Butte Pumped Storage Project.

f. Location: Approximately 3 miles west of the City of Martinsdale, Meagher County, Montana. The proposed project would not occupy any federal lands.

g. Filed Pursuant to: Federal Power Act 16 U.S.C. 791 (a)—825(r).

h. Applicant Contact: Carl. E. Borgquist, President, GB Energy Park, LLC, 209 Wilson Avenue, P.O. Box 309, Bozeman, MT 59771; (406) 585-3006; carl@absarokaenergy.com.

i. FERC Contact: Mike Tust, (202) 502-6522 or michael.tust@ferc.gov.

j. Deadline for filing motions to intervene and protests: 60 days from the issuance date of this notice.

The Commission strongly encourages electronic filing. Please file motions to intervene and protests using the Commission's eFiling system at http://www.ferc.gov/docs-filing/efiling.asp. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-13642-003.

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application has been accepted, but is not ready for environmental analysis at this time.

l. Project Description: The Gordon Butte Pumped Storage Project would consist of the following new facilities: (1) A manually operated head gate on an existing irrigation canal that provides initial fill and annual make-up water to the lower reservoir from the existing irrigation canal; (2) a 3,000-foot-long, 1,000-foot-wide upper reservoir created by a 60-foot-high, 7,500-foot-long concrete-faced rockfill dam; (3) a reinforced concrete intake/outlet structure at the upper reservoir with six gated intake bays converging into a central 18-foot-diameter, 750-foot-long vertical shaft; (4) an 18-foot-diameter, 3,000-foot-long concrete and steel-lined penstock tunnel leading from the upper reservoir to the lower reservoir; (5) a 2,300-foot-long, 1,900-foot-wide lower reservoir created by a combination of excavation and two 60-foot-high, 500- and 750-foot-long concrete-faced rockfill dams; (6) a partially buried 338-foot-long, 109-foot-wide, 74-foot-high reinforced concrete and steel powerhouse with four 100-megawatt (MW) ternary Pelton turbine/pump/generators; (7) a 600-foot-long, 200-foot-wide substation at the powerhouse site with 13.8- kilovolt (kV) to 230-kV step-up transformers; (8) a 5.7-mile-long, 230-kV transmission line; (9) a substation with a 230-kV to 500-kV step-up transformer, connecting to an existing non-project 500-kV transmission line; and (11) appurtenant facilities. The project is estimated to provide 1,300 gigawatt-hours annually. No federal lands are included in the project.

m. A copy of the application is available for review at the Commission in the Public Reference Room or may be viewed on the Commission's Web site at http://www.ferc.gov using the “eLibrary” link. Enter the docket number excluding the last three digits in the docket number field to access the document. For assistance, contact FERC Online Support. A copy is also available for inspection and reproduction at the address in item h above.

Register online at http://www.ferc.gov/docs-filing/esubscription.asp to be notified via email of new filings and issuances related to this or other pending projects. For assistance, contact FERC Online Support.

n. Anyone may submit a protest or a motion to intervene in accordance with the requirements of Rules of Practice and Procedure, 18 CFR 385.210, .211, and .214. In determining the appropriate action to take, the Commission will consider all protests or other comments filed, but only those who file a motion to intervene in accordance with the Commission's Rules may become a party to the proceeding. Any protests or motions to intervene must be received on or before the specified comment date for the particular application.

All filings must (1) bear in all capital letters the title “MOTION TO INTERVENE” or “PROTEST”; (2) set forth in the heading the name of the applicant and the project number of the application to which the filing responds; (3) furnish the name, address, and telephone number of the person protesting or intervening; and (4) otherwise comply with the requirements of 18 CFR 385.2001 through 385.2005. Agencies may obtain copies of the application directly from the applicant. A copy of any protest or motion to intervene must be served upon each representative of the applicant specified in the particular application.

A copy of all other filings in reference to this application must be accompanied by proof of service on all persons listed in the service list prepared by the Commission in this proceeding, in accordance with 18 CFR 4.34(b) and 385.2010.

Dated: November 16, 2015.
Nathaniel J. Davis, Sr.,
Deputy Secretary.

[FR Doc. 2015-29765 Filed 11-20-15; 8:45 am]

BILLING CODE 6717-01-P